DEPARTMENT OF THE INTERIOR

Bureau of Land Management

[BLM_ES_FRN_MO4500178579]

Notice of Intent To Prepare an Environmental Impact Statement and To Initiate Scoping for Federal Coal Lease Applications for Two Leases To Expand Operations at the Warrior Met Coal Mines, Tuscaloosa County, Alabama

AGENCY: Bureau of Land Management, Interior.

ACTION: Notice of intent.

SUMMARY: In compliance with the National Environmental Policy Act of 1969, as amended (NEPA), the Bureau of Land Management (BLM) Southeastern States District Office, Flowood, Mississippi, intends to prepare an Environmental Impact Statement (EIS) to consider the effects of offering two Federal coal leases by holding a competitive lease sale for each respective Lease By Application (LBA) received from Warrior Met Coal, Inc. This notice is announcing the beginning of the scoping process to solicit public comments and identify issues.

DATES: This notice initiates the public-scoping process for the EIS. The BLM requests that the public submit comments concerning the scope of the analysis, potential alternatives, and identification of relevant information, and studies by May 30, 2024. To give the BLM enough time to consider comments in the Draft EIS, please ensure your comments are received by BLM before the close of the 30-day scoping period or 15 days after the last public meeting, whichever is later.

ADDRESSES: You may submit comments related to the Warrior Met Coal Mines EIS by any of the following methods:

• Website: https://eplanning.blm.gov/eplanning-ui/project/2031600/510.

• Mail: Bureau of Land Management, Attn: Warrior Met Coal Mines EIS, 273 Market Street, Flowood, MS 39232.

Documents pertinent to this proposal may be examined online at https://eplanning.blm.gov/eplanning-ui/home and by mail at the BLM Southeastern States District Office: 273 Market Street, Flowood, MS 39232.

FOR FURTHER INFORMATION CONTACT: Bob Swithers, BLM Southeastern States District Manager, telephone: 601-919-4696; address: 273 Market Street, Flowood, MS 39232; email: rswithers@blm.gov. Contact Mr. Swithers to have your name added to our mailing list. Individuals in the United States who are deaf, deafblind, hard of hearing, or have a speech disability may dial 711 (TTY, TDD, or TeleBraille) to access telecommunications relay services for contacting Mr. Swithers. Individuals outside the United States should use the relay services offered within their country to make international calls to the point-of-contact in the United States.

SUPPLEMENTARY INFORMATION: The BLM Southeastern States District Office received two Federal LBAs to expand current mining operations located in Tuscaloosa County, Alabama. Warrior Met Coal Mining, LLC, proposes to expand Mine No. 4 (ALES-055797), and Warrior Met Coal BC, LLC, proposes to expand Blue Creek Mine No. 1 (ALES-056519). Warrior Met Coal Mining, LLC, and Warrior Met Coal BC, LLC, are subsidiaries of Warrior Met Coal, Inc., and will henceforth be referred to collectively as “Warrior Met Coal.”

The LBA for the Mine No. 4 expansion (ALES-055797) consists of approximately 5,720 acres of private surface lands (i.e., split-estate lands) with an estimated 24 million short tons of recoverable Federal coal. The LBA for the Blue Creek Mine No. 1 expansion (ALES-056519) consists of approximately 8,320 acres of split-estate lands with an estimated 33.5 million short tons of recoverable Federal coal. The combined proposed lease area for both applications includes approximately 14,040 acres of split-estate lands. Warrior Met Coal is seeking to obtain leases for the extraction of metallurgical coal resources by means of underground longwall mining techniques.

The BLM initially began preparing an environmental assessment to evaluate the LBA for Mine No. 4. Upon further review of the potential effects of the proposed action for Mine No. 4 expansion and, given the proximity to the Blue Creek Mine No. 1 expansion LBA, the BLM determined that an EIS is warranted, and that both LBAs would be evaluated under a single EIS. This notice of intent initiates the EIS process to evaluate both LBAs and terminates the environmental assessment process evaluating the LBA for Mine No. 4.

Purpose and Need for the Proposed Action

The purpose of the project is to provide for responsible development of coal resources in the Warrior Basin by responding to two Federal coal LBAs submitted by Warrior Met Coal to access a total of approximately 14,040 acres of Federal minerals underlying split-estate lands in Tuscaloosa County, Alabama. The applications propose to extract approximately 57.5 million tons of recoverable Federal metallurgical coal reserves.

The need is established by the BLM's responsibility under the Mineral Leasing Act of 1920, as amended; the Mineral Leasing Act for Acquired Lands of 1947, as amended; and the Federal Coal Leasing Amendments Act of 1976, as amended, to respond to two Federal coal LBAs submitted by Warrior Met Coal (ALES-055797 and ALES-056519) which seek to expand two existing underground mines.

Preliminary Proposed Action, and Alternatives

The proposed action is to offer for lease approximately 5,720 acres of Federal minerals for Mine No. 4 (ALES-055797) and 8,320 acres of Federal minerals for Blue Creek Mine No. 1 (ALES-056519) with the intent of allowing for the proposed extraction of a combined estimated 57.5 million tons of metallurgical coal reserves by means of underground longwall mining techniques. The surface of the lands identified in both LBAs are privately owned. Implementation of the proposed action would result in the BLM holding two competitive lease sales, one for each LBA.

The BLM will also evaluate the no action alternative under which the BLM would deny the two LBAs and the land would not be offered for lease. The BLM welcomes comments on all preliminary alternatives as well as suggestions for additional alternatives.

Summary of Expected Impacts

The proposed action would authorize approximately 57.5 million tons of Federal metallurgical coal to be leased. A decision to lease the proposed lands would not provide the successful bidder with an authorization to engage in mining activities. However, mining is a logical extension of leasing the Federal coal reserves. Potential impacts of the proposed action include, but are not limited to, impacts to air quality, including greenhouse gas emissions; impacts on populations with environmental justice concerns; impacts from potential subsidence from underground mining; and impacts to groundwater and surface water quality.

Anticipated Permits and Authorizations

If the proposed action is approved, the BLM would hold two competitive lease sales, one for each LBA, as outlined in 43 CFR part 3420—Competitive Leasing. Upon completion of each competitive lease sale, the BLM would award the leases to the successful bidder(s). Once a lease is issued, the Alabama Surface Mining Commission (ASMC) would be responsible for permitting the mining operations. The ASMC would determine whether to issue a permit and, if so, what terms and conditions to apply, in accordance with relevant policies and authorities. The Office of Surface Mining Reclamation and Enforcement (OSMRE) would prepare a mine plan decision document and make a recommendation to the Assistant Secretary for Land and Minerals Management regarding whether to approve, approve with conditions, or disapprove the mine plan.

Schedule for the Decision-Making Process

The BLM will provide additional opportunities for public participation consistent with the NEPA process, including a 45-day comment period on the Draft EIS. The Draft EIS is anticipated to be available for public review in autumn 2024, and the Final EIS is anticipated to be released in summer 2025 with a Record of Decision in early 2026.

Public Scoping Process

This notice of intent initiates the scoping period. The BLM requests that the public submit comments concerning the scope of the analysis, potential alternatives, and identification of relevant information, and studies by May 30, 2024. The BLM does not intend to hold any public meetings, in-person or virtual, during the public scoping period. If the BLM later determines that it will hold public meetings, the specific date(s) and location(s) of any meeting will be announced in advance through the ePlanning project page (see ADDRESSES) and local media.

Cooperating Agencies

OSMRE and the ASMC are cooperating agencies.

Responsible Official

The BLM Eastern States Director is the deciding official on the LBAs submitted by Warrior Met Coal.

Nature of Decision To Be Made

The responsible official will determine whether to offer lands identified in the LBAs ALES-055797 and ALES-056519 for Federal coal leasing and, if approved, what special stipulations to apply to the coal lease(s).

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and it may be considered at multiple scales, including the landscape scale.

The BLM will use and coordinate the NEPA process to help support compliance with applicable procedural requirements under the Endangered Species Act (16 U.S.C. 1536) and Section 106 of the National Historic Preservation Act (54 U.S.C. 306108), as provided in 36 CFR 800.2(d)(3), including public involvement requirements of Section 106. The information about historic and cultural resources and threatened and endangered species within the area potentially affected by the proposed project will assist the BLM in identifying and evaluating impacts to such resources.

The BLM will consult with Indian Tribal Nations on a government-to-government basis in accordance with Executive Order 13175, BLM Manual Section 1780, and other Departmental policies. Tribal concerns, including impacts on Indian trust assets and potential impacts to cultural resources, will be given due consideration. Federal, State, and local agencies, along with Indian Tribal Nations and stakeholders that may be interested in or affected by the two proposed LBAs for Federal coal that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Mitchell Leverette,
Eastern States Director.

[FR Doc. 2024-09222 Filed 4-29-24; 8:45 am]

BILLING CODE 4331-18-P